DEPARTMENT OF HEALTH AND HUMAN SERVICES

National Institutes of Health

National Cancer Institute; Amended Notice of Call for Nominations for the National Cancer Institute Director's Consumer Liaison Group

Notice is hereby given of a change in the Call for Nominations for the National Cancer Institute Director's Consumer Liaison Group which was published in the Federal Register on March 18, 2008, 73 FR 14476-14477.

This call for nominations is being amended to revise the due date for candidates interested in being considered for appointment to the Director's Consumer Liaison Group to postmark their nomination package by April 30, 2008 instead of April 15, 2008.

Dated: April 8, 2008.
Jennifer Spaeth,
Director, Office of Federal Advisory Committee Policy.

[FR Doc. E8-7929 Filed 4-14-08; 8:45 am]

BILLING CODE 4140-01-M